Title 3—

The President

Proclamation 9571 of January 25, 2017

National School Choice Week, 2017

By the President of the United States of America

A Proclamation

The foundation of a good life begins with a great education. Today, too many of our children are stuck in schools that do not provide this opportunity.

Because the education of our young people is so important, the parents of every student in America should have a right to a meaningful choice about where their child goes to school.

By expanding school choice and providing more educational opportunities for every American family, we can help make sure that every child has an equal shot at achieving the American Dream. More choices for our students will make our schools better for everybody.

Our country is home to many great schools and many extraordinary teachers—whether they serve in traditional public schools, public charter schools, magnet schools, private or religious schools, or in homeschooling environments.

With a renewed commitment to expanding school choice for our children, we can truly make a great education possible for every child in America.

I commend our Nation's students, parents, teachers, and school leaders for their commitment to quality, effective education, and I call on States and communities to support effective education and school choice for every child in America.

As our country celebrates National School Choice Week, I encourage parents to evaluate the educational opportunities available for their children. I also encourage State lawmakers and Federal lawmakers to expand school choice for millions of additional students.

NOW, THEREFORE, I, DONALD J. TRUMP, President of the United States of America, by virtue of the authority vested in me by the Constitution and the laws of the United States, do hereby proclaim January 22 through January 28, 2017, as National School Choice Week.

IN WITNESS WHEREOF, I have hereunto set my hand this twenty-fifth day of January, in the year of our Lord two thousand seventeen, and of the Independence of the United States of America the two hundred and forty-first.

[FR Doc. 2017-02092

Filed 1-27-17; 11:15 am]

Billing code 3295-F7-P